DEPARTMENT OF THE TREASURY

United States Mint

Establish Price for 2021 United States Mint Numismatic Product

AGENCY: United States Mint, Department of the Treasury.

ACTION: Notice.

SUMMARY: The United States Mint is announcing pricing for a United States Mint numismatic product in accordance with the table below:

Product | 2021 Retail price
American Innovation $1 Coin Reverse Proof SetTM | $28.00

FOR FURTHER INFORMATION CONTACT: Customer Service; United States Mint; 801 9th Street NW; Washington, DC 20220; or call 1-800-USA-MINT.

Authority: 31 U.S.C. 5112, 5132, & 9701.

Eric Anderson,
Executive Secretary, United States Mint.

[FR Doc. 2021-07980 Filed 4-16-21; 8:45 am]

BILLING CODE P